FEDERAL ELECTION COMMISSION

[NOTICE 2021-05]

Filing Dates for the New Mexico Special Election in the 1st Congressional District

AGENCY: Federal Election Commission.

ACTION: Notice of filing dates for special election.

SUMMARY: New Mexico has scheduled a Special General Election on June 1, 2021, to fill the U.S. House of Representatives seat in the 1st Congressional District vacated by Representative Debra A. Haaland. Committees participating in the New Mexico special election are required to file pre- and post-election reports.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the New Mexico Special General Election shall file a 12-day Pre-General Report on May 20, 2021, and a 30-day Post-General Report on July 1, 2021. (See charts below for the closing date for each report.)

Note that these reports are in addition to the campaign committee's regular quarterly filings. (See charts below for the closing date for each report.)

Unauthorized Committees (PACs and Party Committees)

Political committees not filing monthly in 2021 are subject to special election reporting if they make previously undisclosed contributions or expenditures in connection with the New Mexico Special General by the close of books for the applicable report(s). (See charts below for the closing date for each report.)

Committees filing monthly that make contributions or expenditures in connection with the New Mexico Special General will continue to file according to the monthly reporting schedule.

Additional disclosure information for the New Mexico special election may be found on the FEC website at https://www.fec.gov/help-candidates-and-committees/dates-and-deadlines/.

Disclosure of Lobbyist Bundling Activity

Principal campaign committees, party committees and leadership PACs that are otherwise required to file reports in connection with the New Mexico Special General must simultaneously file FEC Form 3L if they receive two or more bundled contributions from lobbyists/registrants or lobbyist/registrant PACs that aggregate in excess of $19,300 during the special election reporting periods. (See charts below for closing date of each period.) 11 CFR 104.22(a)(5)(v), (b), 110.17(e)(2), (f).

Calendar of Reporting Dates for New Mexico Special Election
Report | Close of books ¹ | Reg./cert. & overnight mailing deadline | Filing deadline
Campaign Committees Involved in the Special General (06/01/2021) Must File:
Pre-General | 05/12/2021 | 05/17/2021 | 05/20/2021
Post-General | 06/21/2021 | 07/01/2021 | 07/01/2021
July Quarterly | 06/30/2021 | 07/15/2021 | 07/15/2021
PACs and Party Committees Not Filing Monthly Involved in the Special General (06/01/2021) Must File:
Pre-General | 05/12/2021 | 05/17/2021 | 05/20/2021
Post-General | 06/21/2021 | 07/01/2021 | 07/01/2021
Mid-Year | 06/30/2021 | 07/31/2021 | 07/31/2021 ²
¹ The reporting period always begins the day after the closing date of the last report filed. If the committee is new and has not previously filed a report, the first report must cover all activity that occurred before the committee registered as a political committee up through the close of books for the first report due.
² Notice that this filing deadline falls on a weekend. Filing deadlines are not extended when they fall on nonworking days. Accordingly, reports filed by methods other than registered, certified or overnight mail must be received by close of business on the last business day before the deadline.

Dated: March 26, 2021.
On behalf of the Commission.
Shana M. Broussard,
Chair, Federal Election Commission.

[FR Doc. 2021-06605 Filed 3-30-21; 8:45 am]

BILLING CODE 6715-01-P